NUCLEAR REGULATORY COMMISSION

[Docket No. 40-3392; NRC-2017-0143]

Honeywell, International, Inc.; Metropolis Works Uranium Conversion Facility

AGENCY: Nuclear Regulatory Commission.

ACTION: Environmental assessment and finding of no significant impact; issuance.

SUMMARY: The U.S. Nuclear Regulatory Commission (NRC) is issuing an environmental assessment (EA) and finding of no significant impact (FONSI) for the proposed renewal of NRC source materials license SUB-526 for Honeywell, International, Inc.'s Metropolis Works uranium conversion facility. The final EA, “Final Environmental Assessment for the Proposed Renewal of Source Materials License SUB-526, Metropolis Works Uranium Conversion Facility (Massac County, Illinois),” documents the NRC staff's environmental review of the license renewal application.

DATES: The final EA is available on October 16, 2019.

ADDRESSES: Please refer to Docket ID NRC-2017-0143 when contacting the NRC about the availability of information regarding this document. You may obtain publicly-available information related to this document using any of the following methods:

• Federal Rulemaking Website: Go to https://www.regulations.gov and search for Docket ID NRC-2017-0143. Address questions about NRC docket IDs in Regulations.gov to Anne Frost; telephone: 301-287-9232; email: Anne.Frost@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The final EA is available in ADAMS under Accession No. ML19273A012.

• NRC's PDR: You may examine and purchase copies of public documents at the NRC's PDR, Room O1-F21, One White Flint North, 11555 Rockville Pike, Rockville, Maryland 20852.

FOR FURTHER INFORMATION CONTACT: Christine Pineda, Office of Nuclear Material Safety and Safeguards, U.S. Nuclear Regulatory Commission, Washington, DC 20555-0001; telephone: 301-415-6789; email: Christine.Pineda@nrc.gov.

SUPPLEMENTARY INFORMATION:

I. Introduction

The NRC is considering a request for the renewal of Honeywell International, Inc.'s (Honeywell's) source materials license SUB-526, which authorizes Honeywell to operate a uranium hexafluoride processing (or uranium conversion) plant at the Metropolis Works Facility, located near Metropolis, in Massac County, Illinois. The facility was constructed in 1958, and uranium hexafluoride was first produced for several years beginning in 1959 for the U.S. Government. In 1968, the facility began producing uranium hexafluoride for commercial purposes.

In accordance with the NRC's regulations in part 51 of title 10 of the Code of Federal Regulations (10 CFR), “Environmental Protection Regulations for Domestic Licensing and Related Regulatory Functions,” that implement the National Environmental Policy Act of 1969, as amended (NEPA) (42 U.S.C. 4321 et seq.), the NRC staff has prepared a final EA documenting its environmental review of the license renewal application (ADAMS Accession Nos. ML17048A243, ML17048A244, and ML18029A119). The NRC published a notice of availability of the draft EA in the Federal Register on October 31, 2018 (83 FR 54787). The public comment period for the draft EA closed on November 30, 2018. Summaries of and responses to public comments on the draft EA are provided in Appendix B of the final EA.

II. Summary of Environmental Assessment

The final EA is publicly-available in ADAMS under Accession No. ML19273A012, or at this link: https://www.nrc.gov/docs/ML1927/ML19273A012.pdf. A summary description of the proposed action and expected environmental impacts is provided below.

Description of the Proposed Action

The proposed Federal action is approval of Honeywell's license renewal request, which if granted would allow Honeywell to continue conversion of uranium ore concentrates, also known as yellowcake, to uranium hexafluoride. The proposed action analyzed in the final EA accounts for a renewed license term of 40 years, which is the term Honeywell has requested. The proposed action and proposed license conditions would allow Honeywell to continue to receive, possess, store, use, and ship source material. Honeywell would continue the conversion of uranium ore concentrates to uranium hexafluoride at an authorized capacity of 15,000 metric tons (16,535 tons). Honeywell would continue to ship the uranium hexafluoride product to enrichment facilities for processing into enriched uranium.

Environmental Impacts of the Proposed Action

In the final EA, the NRC staff assessed the potential environmental impacts from the proposed license renewal associated with the following resource areas: Land use; geology and soils; water resources; ecological resources; cultural resources; air quality; socioeconomics; environmental justice; scenic and visual resources; public and occupational health; transportation; and waste management. The NRC staff also considered the cumulative impacts from past, present, and reasonably foreseeable future actions when combined with the proposed action.

The NRC staff determined that continued Honeywell operations would not result in significant environmental impacts, as described in the EA. The staff concluded that approval of the proposed action would not result in a significant increase in short-term or long-term radiological risk to public health or the environment. Furthermore, the NRC staff found that the incremental impacts from the proposed action, when added to the impacts of other past, present, and reasonably foreseeable future actions, would not contribute significantly to cumulative environmental impacts.

Environmental Impacts of the Alternatives to the Proposed Action

As one alternative to the proposed action, the NRC staff considered denial of Honeywell's license renewal request (i.e., the “no-action” alternative). Under the no-action alternative, Honeywell would need to stop operations permanently and submit a decommissioning plan for NRC review and approval. This would entail an environmental review to assess the potential impacts associated with the proposed decommissioning action. The NRC determined for this EA that the potential environmental impacts of the no-action alternative (prior to decommissioning) would not be significant.

As another alternative, the NRC considered approval of Honeywell's renewal request, but for a duration of less than 40 years (the “reduced duration alternative”). Honeywell would continue operating for a period of less than 40 years, resulting in potential impacts that would be similar to or less than the impacts of the proposed action.

III. Final Finding of No Significant Impact

In accordance with NEPA and 10 CFR part 51, the NRC staff has conducted an environmental review of Honeywell's request to renew NRC source materials license SUB-526 to allow Honeywell to continue its uranium conversion operations. Based on its environmental review of the proposed action, as documented in the final EA, the NRC staff determined that granting the requested license renewal would not significantly affect the quality of the human environment. Therefore, the NRC staff makes its final determination, pursuant to 10 CFR 51.31, that the preparation of an environmental impact statement is not required for the proposed action and a FONSI is appropriate.

Dated at Rockville, Maryland, this 10th day of October 2019.
For the Nuclear Regulatory Commission.
Kathryn M. Brock,
Acting Director, Division of Fuel Cycle Safety, Safeguards, and Environmental Review, Office of Nuclear Material Safety and Safeguards.

[FR Doc. 2019-22550 Filed 10-15-19; 8:45 am]

BILLING CODE 7590-01-P